DEPARTMENT OF ENERGY

Federal Energy Regulatory Commission

Combined Notice of Filings

Take notice that the Commission has received the following Natural Gas Pipeline Rate and Refund Report filings:

Filings Instituting Proceedings

Docket Numbers: PR26-26-000.

Applicants: Buffalo Run Pipeline LLC.

Description: § 284.123 Rate Filing: Rate Election and Revised Statement of Operating Conditions to be effective 4/1/2026.

Filed Date: 1/23/26.

Accession Number: 20260123-5178.

Comment Date: 5 p.m. ET 2/13/26.

Docket Numbers: PR26-27-000.

Applicants: Bull Run Pipeline LLC.

Description: § 284.123 Rate Filing: Rate Election and Revised Statement of Operating Conditions to be effective 4/1/2026.

Filed Date: 1/23/26.

Accession Number: 20260123-5181.

Comment Date: 5 p.m. ET 2/13/26.

Docket Numbers: PR26-28-000.

Applicants: Rocky Mountain Natural Gas LLC.

Description: § 284.123 Rate Filing: Rocky Mountain Natural Gas SOC Filing to be effective 1/1/2026.

Filed Date: 1/26/26.

Accession Number: 20260126-5000.

Comment Date: 5 p.m. ET 2/17/26.

Docket Numbers: RP26-398-000.

Applicants: Great Lakes Gas Transmission Limited Partnership.

Description: § 4(d) Rate Filing: Neg Rate Agmt—Koch Energy 22976, Eff 12.1.25 to be effective 12/1/2025.

Filed Date: 1/22/26.

Accession Number: 20260122-5130.

Comment Date: 5 p.m. ET 2/3/26.

Docket Numbers: RP26-399-000.

Applicants: Great Lakes Gas Transmission Limited Partnership.

Description: § 4(d) Rate Filing: Neg Rate Agreements, Eff. 1.1.26 to be effective 1/1/2026.

Filed Date: 1/22/26.

Accession Number: 20260122-5133.

Comment Date: 5 p.m. ET 2/3/26.

Docket Numbers: RP26-400-000.

Applicants: Alliance Pipeline L.P.

Description: § 4(d) Rate Filing: PAL Negotiated Rate Agreements 2026-01-22 to be effective 1/22/2026.

Filed Date: 1/22/26.

Accession Number: 20260122-5139.

Comment Date: 5 p.m. ET 2/3/26.

Docket Numbers: RP26-401-000.

Applicants: Midship Pipeline Company, LLC.

Description: § 4(d) Rate Filing: Midship Pipeline Administrative Updates to Tariff to be effective 2/22/2026.

Filed Date: 1/23/26.

Accession Number: 20260123-5106.

Comment Date: 5 p.m. ET 2/4/26.

Docket Numbers: RP26-402-000.

Applicants: Midcontinent Express Pipeline LLC.

Description: § 4(d) Rate Filing: MEP January 2026 NRA Amendment Filing (ARM) to be effective 1/24/2026.

Filed Date: 1/23/26.

Accession Number: 20260123-5131.

Comment Date: 5 p.m. ET 2/4/26.

Docket Numbers: RP26-403-000.

Applicants: Alliance Pipeline L.P.

Description: § 4(d) Rate Filing: PAL Negotiated Rate Agreements 2026-01-23 to be effective 1/23/2026.

Filed Date: 1/23/26.

Accession Number: 20260123-5158.

Comment Date: 5 p.m. ET 2/4/26.

Docket Numbers: RP26-404-000.

Applicants: Rockies Express Pipeline LLC.

Description: § 4(d) Rate Filing: REX 2026-01-23 Negotiated Rate Agreement to be effective 1/24/2026.

Filed Date: 1/23/26.

Accession Number: 20260123-5161.

Comment Date: 5 p.m. ET 2/4/26.

Docket Numbers: RP26-405-000.

Applicants: Iroquois Gas Transmission System, L.P.

Description: § 4(d) Rate Filing: 1.23.26 Negotiated Rates—Mercuria Energy America, LLC H-7540-89 to be effective 1/23/2026.

Filed Date: 1/23/26.

Accession Number: 20260123-5194.

Comment Date: 5 p.m. ET 2/4/26.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, the public is encouraged to contact OPP at (202) 502-6595 or OPP@ferc.gov.

Dated: January 26, 2026.
Carlos D. Clay,
Deputy Secretary.

[FR Doc. 2026-01788 Filed 1-28-26; 8:45 am]

BILLING CODE 6717-01-P